DEPARTMENT OF JUSTICE

Drug Enforcement Administration

[Docket No. DEA-692]

Bulk Manufacturer of Controlled Substances Application: American Radiolabeled Chemicals, Inc

ACTION: Notice of application.

DATES: Registered bulk manufacturers of the affected basic class(es), and applicants therefore, may file written comments on or objections to the issuance of the proposed registration on or before October 2, 2020.

DATES: Written comments should be sent to: Drug Enforcement Administration, Attention: DEA Federal Register Representative/DPW, 8701 Morrissette Drive, Springfield, Virginia 22152.

SUPPLEMENTARY INFORMATION: In accordance with 21 CFR 1301.33(a), this is notice that on July 13, 2020, American Radiolabeled Chemicals, Inc, 101 Arc Drive

Saint Louis, Missouri 63146-3502, applied to be registered as a bulk manufacturer of the following basic class(es) of controlled substances:

Controlled substance | Drug code | Schedule
Gamma Hydroxybutyric Acid | 2010 | I
Ibogaine | 7260 | I
Lysergic acid diethylamide | 7315 | I
Tetrahydrocannabinols | 7370 | I
Dimethyltryptamine | 7435 | I
1-[1-(2-Thienyl)cyclohexyl]piperidine | 7470 | I
Dihydromorphine | 9145 | I
Heroin | 9200 | I
Normorphine | 9313 | I
Amphetamine | 1100 | II
Methamphetamine | 1105 | II
Amobarbital | 2125 | II
Phencyclidine | 7471 | II
Phenylacetone | 8501 | II
Cocaine | 9041 | II
Codeine | 9050 | II
Dihydrocodeine | 9120 | II
Oxycodone | 9143 | II
Hydromorphone | 9150 | II
Ecgonine | 9180 | II
Hydrocodone | 9193 | II
Meperidine | 9230 | II
Metazocine | 9240 | II
Methadone | 9250 | II
Dextropropoxyphene, bulk (non-dosage forms) | 9273 | II
Morphine | 9300 | II
Oripavine | 9330 | II
Thebaine | 9333 | II
Oxymorphone | 9652 | II
Phenazocine | 9715 | II
Carfentanil | 9743 | II
Fentanyl | 9801 | II

The company plans to manufacture small quantities of the above-listed controlled substances as radiolabeled compounds for biochemical research. No other activities for these drug codes are authorized for this registration.

William T. McDermott,
Assistant Administrator.

[FR Doc. 2020-16775 Filed 7-31-20; 8:45 am]

BILLING CODE 4410-09-P